DEPARTMENT OF THE INTERIOR

Bureau of Land Management

[CA-067-02-1610-JP-064B]

Extension of the Scoping Phase Public Comment Period for an Amendment to the California Desert Conservation Area Plan

AGENCY: Bureau of Land Management, Interior.

ACTION: Extend the Scoping Phase Public Comment Period from May 17, 2002 to May 31, 2002 for an Amendment to the California Desert Conservation Area (CDCA) Plan and Environmental Assessment (EA) in the Western Colorado section of Imperial County, CA. The Notice of Intent with the original end of the public comment period was published in the Federal Register on March 15, 2002 (Volume 67, Number 57, Pages 13648-13649).

DATES: The time period for accepting written comments on the scope of the proposed plan amendment has been extended from May 17, 2002 to May 31, 2002.

ADDRESSES: Comments should be sent to Greg Thomsen, Field Manager, Bureau of Land Management, El Centro Field Office, 1661 South 4th Street, El Centro, CA 92243-4561. Comments, including names and addresses of respondents, will be available for public review at the El Centro Field Office during normal working hours (7:45 AM to 4:30 PM, except holidays), and may be published as part of the EA or other related documents. Individuals may request confidentiality. If you wish to withhold your name or address from public review or from disclosure under the Freedom of Information Act, you must state this promptly at the beginning of you comment. Such requests will be honored to the extent allowed by law. All submissions from organizations or businesses will be made available for public inspection in their entirety.

FOR FURTHER INFORMATION CONTACT: Arnold F. Schoeck, Lead Outdoor Recreation Planner, at the above address, telephone number (760) 337-4441, or e-mail at Arnold_Schoeck.ca.blm.gov.

Dated: May 2, 2002.
Greg Thomsen,
Field Manager.

[FR Doc. 02-12919 Filed 5-22-02; 8:45 am]

BILLING CODE 1610-40-P